DEPARTMENT OF COMMERCE

International Trade Administration

[A-357-812]

Honey From Argentina: Final Results of Antidumping Duty Administrative Review

AGENCY: Import Administration, International Trade Administration, Department of Commerce.

SUMMARY: On January 14, 2011, the Department of Commerce (the Department) published its preliminary results of the 2008-2009 administrative review of the antidumping duty order on honey from Argentina. See Honey From Argentina: Preliminary Results of Antidumping Duty Administrative Review, 76 FR 2655 (January 14, 2011) (Preliminary Results). This review covers three mandatory respondents, Compania Inversora Platense S.A., Patagonik S.A., and TransHoney S.A.; all three exporters of honey from Argentina to the United States during the period of review (POR) of December 1, 2008, to November 30, 2009. The final weighted-average dumping margins for the exporters are listed below in the “Final Results of Review” section of this notice.

DATES: Effective Date: May 20, 2011.

FOR FURTHER INFORMATION CONTACT: David Cordell, Ericka Ukrow or Dena Crossland, Office 7, Import Administration, International Trade Administration, U.S. Department of Commerce, 14th Street and Constitution Avenue, NW., Washington, DC 20230; telephone: (202) 482-0408, (202) 482-0405 or (202) 482-3362, respectively.

SUPPLEMENTARY INFORMATION:

Background

On January 14, 2011, the Department published in the Federal Register the preliminary results of the administrative review of the antidumping duty order on honey from Argentina for the period December 1, 2008 to November 30, 2009. See Preliminary Results. We invited parties to comment on the Preliminary Results, and received comments from the mandatory respondents Compania Inversora Platense S.A. (CIPSA), Patagonik S.A. (Patagonik), and TransHoney S.A. (TransHoney). We did not receive any rebuttal comments and no hearing was requested.

As explained in the memorandum from the Deputy Assistant Secretary (DAS) for Import Administration, the Department exercised its discretion to toll Import Administration deadlines for the duration of the closure of the Federal Government from February 5, through February 12, 2010. Thus, all deadlines in this segment of the proceeding were extended by seven days. Therefore, the revised deadline for the final results of this review became May 14, 2011.¹ See Memorandum to the Record from Ronald Lorentzen, DAS for Import Administration, regarding “Tolling of Administrative Deadlines As a Result of the Government Closure During the Recent Snowstorm,” dated February 12, 2010.

¹ We note that May 14, 2011, falls on a Saturday. Therefore, the deadline becomes the next business day, Monday, May 16, 2011. See Notice of Clarification: Application of “Next Business Day” Rule for Administrative Deadlines Pursuant to the Tariff Act of 1930, As Amended, 70 FR 24533 (May 10, 2005).

Period of Review

The POR is December 1, 2008, through November 30, 2009.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Analysis of Comments Received

All issues raised in the case briefs by parties to this administrative review are addressed in the accompanying Issues and Decision Memorandum (I&D Memo), which is hereby adopted by this notice. A list of the issues which parties have raised, and to which we have responded in the I&D Memo, is attached to this notice as an Appendix. In addition, a complete version of the I&D Memo can be accessed directly by the Internet at http://ia.ita.doc.gov/frn. The paper copy and electronic version of the I&D Memo are identical in content.

Changes Since the Preliminary Results

After considering Patagonik's supplemental cost response, which was submitted too close to the date of the Preliminary Results to be thoroughly analyzed and included in our preliminary cost analysis, the Department has made an adjustment to Patagonik's cost of production to properly account for its middleman costs. See Memorandum to Neal M. Halper, Director of Office of Accounting, “Cost of Production and Constructed Value Calculation Adjustments for the Final Results—Patagonik S.A.,” dated May 16, 2011, and the Analysis Memorandum to the File through Angelica L. Mendoza, Program Manager, from David Cordell for Patagonik Regarding “Analysis Memorandum for the Final Results of the 2008-2009 Administrative Review of the Antidumping Duty Order on Honey from Argentina for Patagonik S.A.” dated May 16, 2011, for further details.

Final Results of Review

We determine that the following dumping margins exist for the period December 1, 2008, through November 30, 2009:

Exporter | Weighted- average margin (percentage)
Compania Inversora Platense S.A. | 0.00
Patagonik S.A. and Azul Agronegocios S.A² | 0.27 (de minimis)
TransHoney S.A. and Einsof Trade S.A³ | 0.00

Assessment Rates

Pursuant to section 751(a)(2)(A) of the Act and 19 CFR 351.212(b), the Department will determine, and U.S. Customs and Border Protection (CBP) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue assessment instructions to CBP 15 days after the date of publication of these final results of review.

² Pursuant to section 771(33)(F) of the Tariff Act of 1930, as amended (the Act), the Department has determined that Patagonik and Azul are affiliated. See Preliminary Results; see also Memorandum to Richard Weible, “Antidumping Duty Administrative Review of Honey from Argentina: Analysis of the Relationship Between Patagonik S.A. (Patagonik) and Azul Agronegocios S.A. (Azul),” dated January 7, 2011.

³ Pursuant to section 771(33)(F) of the Act, the Department has determined that TransHoney and Einsof are affiliated. See Preliminary Results; see also Memorandum to Richard Weible, “Antidumping Duty Administrative Review of Honey from Argentina: Analysis of the Relationship Between TransHoney S.A. (TransHoney) and Einsof Trade S.A. (Einsof),” dated January 7, 2011.

The Department clarified its automatic assessment regulation on May 6, 2003 (68 FR 23954). This clarification will apply to entries of subject merchandise during the POR produced by the company(ies) included in these final results of review for which the reviewed company(ies) did not know their merchandise was destined for the United States. In such instances, we will instruct CBP to liquidate un-reviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumption on or after the publication date of these final results, consistent with section 751(a)(1) of the Act: (1) For the companies covered by this review, no cash deposit will be required; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be 30.24 percent, which is the all-others rate established in the LTFV investigation. See Notice of Antidumping Duty Order; Honey From Argentina, 66 FR 63672 (December 10, 2001). These deposit requirements, when imposed, shall remain in effect until publication of the final results of the next administrative review.

Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: May 16, 2011.
Ronald K. Lorentzen,
Deputy Assistant Secretary for Import Administration.

Appendix I

List of Comments in the Accompanying Issues and Decision Memorandum

Comment 1: Treatment of Customer-Requested Testing Expenses.

Comment 2: Treatment of Blending of Honey Expenses.

Comment 3: Zeroing Methodology.

[FR Doc. 2011-12449 Filed 5-19-11; 8:45 am]

BILLING CODE 3510-DS-P